DEPARTMENT OF HEALTH AND HUMAN SERVICES

Administration for Children and Families

Proposed Information Collection Activity; Comment Request

Proposed Projects

Title: Federal Case Registry (FCR).

OMB No. 0970-0421.

Description: Section 454A(e)(1) of the Social Security Act requires that states create a State Case Registry (SCR) within their statewide automated child support systems, to include information on IV-D cases and non-IV-D orders established or modified in the state on or after October 1, 1998. Section 454A(e)(5) requires states to regularly update their cases in the SCR.

The Federal Case Registry (FCR) informs states which other state(s) has information on cases or participants of interest to them. Section 454(A)(f)(1) requires states to furnish to the FCR the minimum amount of information on child support cases (including updates to those cases) recorded in the SCR that is necessary to operate the FCR. The information alerts states to other states that have registered the same individual and automatically provides states with address, employment, and unemployment information to locate these parents and their employers to either establish or enforce a child support order.

The activities associated with the Federal Case Registry information collection are authorized by (1) 42 U.S.C § 654a(e)which requires that state child support agencies establish, update, maintain, and monitor an automated State case registry containing records pertaining to cases enforced by the child support agencies and order information pertaining to all cases, including cases not enforced by the child support agencies, using standardized data elements and including payment records; and (2) 42 U.S.C. § 654a(f)(1), which requires states to furnish certain State Case Registry information to the Federal Case Registry of Child Support Orders, an automated registry established within the Federal Parent Locator Service, to assist state child support enforcement agencies and for other purposes.

Respondents: State Child Support Agencies and Courts

Annual Burden Estimates
Instrument | Number of respondents | Number of responses per respondent | Average burden hours per response | Total burden hours
State Case Registry: IV-D data (Courts) | 3,144 | 454 | 0.025 | 35,684
State Case Registry: Non-IV-D data (Courts) | 3,144 | 198 | 0.025 | 15,563
States: State Case Registry Submission to Federal Case Registry | 54 | 18,980 | 0.033 | 33,822

Estimated Total Annual Burden Hours: 85,069.

In compliance with the requirements of Section 3506(c)(2)(A) of the Paperwork Reduction Act of 1995, the Administration for Children and Families is soliciting public comment on the specific aspects of the information collection described above.

Copies of the proposed collection of information can be obtained an comments may be forwarded by writing to the Administration for Children and Families, Office of Administration, Office of Information Services, 370 L'Enfant Promenade, SW., Washington, DC 20447, Attn: ACF Reports Clearance Officer. Email address infocollection@acf.hhs.gov. All requests should be identified by the title of the information collection.

The department specifically requests comments on: (a) whether the proposed collection of information is necessary for the proper performance of the functions of the agency, including whether the information shall have practical utility; (b) the accuracy of the agency's estimate of the burden of the proposed collection of information; (c) the quality, utility, and clarity of the information to be collected; and, (d) ways to minimize the burden of the collection of information on respondents, including through the use of automated collection techniques or other forms of information technology. Consideration will be given to comments and suggestions submitted within 60 days of this publication.

Robert Sargis,
Reports Clearance Officer.

[FR Doc. 2014-02413 Filed 2-4-14; 8:45 am]

BILLING CODE 4184-01-P